SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act, which requires agencies to submit proposed reporting and recordkeeping requirements to OMB for review and approval, and to publish a notice in the Federal Register notifying the public that the agency has made such a submission. This notice also allows an additional 30 days for public comments.

DATES: Submit comments on or before June 26, 2017.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: Section 7(a) of the Small Business Act authorizes the Small Business Administration to guaranty loans in each of the 7(a) Programs. The regulations at 13 CFR part 120, which cover this loan program, require certain information from loan applicants and lenders that is used to determine program eligibility and compliance with the requirements. The forms identified below are used to collect the information outlined in the regulations.

SBA has made a few changes to the forms, in part to address feedback from the 7(a) lenders and others who routinely use the forms. These changes are intended to improve usability of the forms and generally include: Clarifying questions and instructions for responding, providing additional information, such as definitions of terms, removing certain questions entirely, or adding them to another form where they are more appropriate. Form 1919—Borrower Information Form—was of particular concern to users. SBA has reformatted it into two distinct sections. One section is to be completed by the small business loan applicant, and a separate section completed by each of the applicant's associates/principals. The current form's layout sometimes resulted in multiple associates or principals unnecessarily providing the same information pertaining to the applicant business. This change should resolve that confusion.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Borrower Information Form, Lenders Application for Guaranty, and 7(a) Loan Post Approval Action Checklist.

Description of Respondents: 7(a) Program Participants.

Form Number: SBA Forms 1919, 1920, 1971, 2237, and 2449.

Total Estimated Annual Responses: 110,000.

Total Estimated Annual Hour Burden: 27,959.

Curtis B. Rich,
Management Analyst.

[FR Doc. 2017-10896 Filed 5-25-17; 8:45 am]

BILLING CODE 8025-01-P